FEDERAL COMMUNICATIONS COMMISSION

Notice of Public Information Collection(s) Being Submitted for Review to the Office of Management and Budget

December 26, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 9, 2007. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via internet at Allison_E._Zaleski@omb.eop.gov and to Judith-B.Herman@fcc.gov, Federal Communications Commission, Room 1-B441, 445 12th Street, SW., Washington, DC 20554 or an e-mail to PRA@fcc.gov. If you would like to obtain or view a copy of this information collection after the 60-day comment period, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0800.

Title: FCC Application for Assignments of Authorization and Transfers of Control (Wireless Telecommunications Bureau and/or Public Safety and Homeland Security Bureau).

Form No.: FCC Form 603.

Type of Review: Revision of a currently approved collection.

Respondents: Individuals or households; business or other for-profit; not-for-profit institutions; and state, local or tribal government.

Number of Respondents: 32,551 respondents; 32,551 responses.

Estimated Time Per Response: 1.75 hours.

Frequency of Response: On occasion reporting requirement and recordkeeping requirement.

Obligation To Respond: Mandatory.

Total Annual Burden: 36,621 hours.

Total Annual Cost: $3,092,295.

Privacy Act Impact Assessment: Yes.

Nature and Extent of Confidentiality: Respondents may request materials or information submitted to the Commission be withheld from public inspection under 47 CFR 0.459 of the Commission's rules.

Needs and Uses: The Commission will submit this information collection to OMB as a revision after this 60-day comment period to obtain the full three-year clearance from them.

The FCC Form 603 is being revised to incorporate the requirements of the Commercial Spectrum Enhancement Act (CSEA) and Modernization of the Commission's Competitive Bidding Rules and Procedures contained in WT Docket No. 05-211. The Commission is including designated entity status on Schedule A and to include the new Public Safety and Homeland Security Bureau in the title of the form.

The Commission has also increased the number of estimated respondents subject to this collection by 400 respondents.

The FCC Form 603 is a multi-purpose form used to apply for Commission approval of assignment or transfers of control of licenses in the wireless services. The data collected on this form is used by the FCC to determine whether the public interest would be served by approval of the requested assignment or transfer. This form is also used to notify the Commission of consummated assignments and transfers of wireless and/or public safety licenses that have previously been consented to by the Commission or for which notification but not prior consent is required. This form is used by applicants/licensees in the Public Mobile Services, Personal Communications Services, General Wireless Communications Services, Private Land Mobile Radio Services, Broadcast Auxiliary Services, Broadband Radio Services, Educational Radio Services, Fixed Microwave Services, Maritime Services (excluding ships), and Aviation Services (excluding aircraft).

OMB Control Number: 3060-1058.

Title: FCC Application or Notification for Spectrum Leasing Arrangement (Wireless Telecommunications Bureau and/or Public Safety and Homeland Security Bureau).

Form No.: FCC Form 608.

Type of Review: Revision of a currently approved collection.

Respondents: Business or other for-profit; not-for-profit institutions; and state, local or tribal government.

Number of Respondents: 1,593 respondents; 1,593 responses.

Estimated Time Per Response: 5 hours.

Frequency of Response: On occasion reporting requirement and recordkeeping requirement.

Obligation To Respond: Required to obtain or retain benefits.

Total Annual Burden: 7,965 hours.

Total Annual Cost: $1,309,446.

Privacy Act Impact Assessment: N/A.

Nature and Extent of Confidentiality: Respondents may request materials or information submitted to the Commission be withheld from public inspection under 47 CFR 0.459 of the Commission's rules.

Needs and Uses: The Commission will submit this information collection to OMB as a revision after this 60-day comment period to obtain the full three-year clearance from them.

The FCC Form 608 is being revised to incorporate the requirements of the Commercial Spectrum Enhancement Act (CSEA) and Modernization of the Commission's Competitive Bidding Rules and Procedures contained in WT Docket No. 05-211. The Commission is including designated entity status on Schedule A and to include the new Public Safety and Homeland Security Bureau in the title of the form.

The Commission has also increased the number of estimated respondents subject to this collection by 100 respondents.

FCC Form 608 is a multi purpose form. It is used to provide notification or request approval for any spectrum leasing arrangement (‘leases’) entered into between an existing licensee (‘licensee’) in certain wireless services and a spectrum lessee (‘lessee’). This form is also required to notify or request approval for any spectrum subleasing arrangement (‘sublease’). The data collected on the form is used by FCC to determine whether the public interest would be served by the Lease or Sublease. The form is also used to provide notification for any Private Commons Arrangement entered into between a licensee, lessee, or sublessee and a class of third-party users (as defined in Section 1.9080 of the Commission's rules).

Federal Communications Commission.
William F. Caton,
Deputy Secretary.

[FR Doc. E6-22640 Filed 1-5-07; 8:45 am]

BILLING CODE 6712-01-P